DEPARTMENT OF THE TREASURY

Bureau of the Fiscal Service

Proposed Collection: Comment Request for Voluntary Customer Satisfaction Surveys

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A). Currently the Bureau of the Fiscal Service within the Department of the Treasury is soliciting comments concerning the Customer Satisfaction Survey.

DATES: Written comments should be received on or before November 30, 2013 to be assured of consideration.

ADDRESSES: Direct all written comments to Bureau of the Fiscal Service, Bruce A. Sharp, 200 Third Street A4-A, Parkersburg, WV 26106-1328, or bruce.sharp@bpd.treas.gov. The opportunity to make comments online is also available at www.pracomment.gov

FOR FURTHER INFORMATION CONTACT: Requests for additional information or copies should be directed to Bruce A. Sharp, Bureau of the Fiscal Service, 200 Third Street A4-A, Parkersburg, WV 26106-1328, (304) 480-8150.

SUPPLEMENTARY INFORMATION: Title: Voluntary Customer Satisfaction Survey to Implement Executive Order 12862

OMB Number: 1535-0122

Abstract: The information collected from various surveys conducted over the course of the extension period will be used to improve customer service.

Current Actions: None

Type of Review: Extension

Affected Public: Individuals

Estimated Number of Respondents: 7,000

Estimated Time Per Respondent: 7 minutes.

Estimated Total Annual Burden Hours: 876

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Date: September 25, 2013.
Bruce A. Sharp,
Bureau Clearance Officer.

[FR Doc. 2013-23754 Filed 9-27-13; 8:45 am]

BILLING CODE 4810-39-P